DEPARTMENT OF THE INTERIOR

Bureau of Land Management

[PO #4820000251]

Response to Utah Governor's Appeal of the BLM Utah State Director's Governor's Consistency Review Determination for the Grand Staircase-Escalante National Monument Proposed Resource Management Plan and Final Environmental Impact Statement

AGENCY: Bureau of Land Management, Interior.

ACTION: Notice of response.

SUMMARY: The Bureau of Land Management (BLM) is publishing this notice to explain why the Department of the Interior denied the Governor of Utah's recommendations regarding the Grand Staircase-Escalante National Monument (GSENM) Proposed Resource Management Plan (RMP) and Final Environmental Impact Statement (EIS).

ADDRESSES: A copy of the GSENM Record of Decision (ROD) and Approved RMP is available on the BLM website at: https://eplanning.blm.gov/eplanning-ui/project/2020343/510.

FOR FURTHER INFORMATION CONTACT: Heather Bernier, Division Chief for Decision Support, Planning, and National Environmental Policy Act; telephone 303-239-3635; address P.O. Box 151029, Lakewood, CO 80215; email hbernier@blm.gov. Individuals in the United States who are deaf, deafblind, hard of hearing, or have a speech disability may dial 711 (TTY, TDD, or TeleBraille) to access telecommunications relay services for contacting Ms. Bernier. Individuals outside the United States should use the relay services offered within their country to make international calls to the point-of-contact in the United States.

SUPPLEMENTARY INFORMATION: On August 30, 2024, the BLM released the Proposed RMP/Final EIS for the GSENM (89 FR 70662). In accordance with the regulations at 43 CFR 1610.3-2(e), the BLM submitted the Proposed RMP/Final EIS for the GSENM to the Governor of Utah for a 60-day Governor's Consistency Review for the Governor to review the Proposed RMP and identify any inconsistencies with State plans, policies, or programs. On October 29, 2024, the Governor of Utah submitted a response for the GSENM Proposed RMP and Final EIS to the Acting BLM Utah State Director. The Acting State Director reviewed and considered the Governor's response and sent a written response to the Governor on November 22, 2024. As explained in the response, the Acting State Director accepted some of the Governor's recommendations but did not accept the others for the reasons detailed in this response.

On December 20, 2024, the Governor of Utah appealed the Acting State Director's decision to the BLM Director. The regulations at 43 CFR 1610.3-2(e) state that, in reviewing these appeals, “[t]he Director shall accept the (consistency) recommendations of the Governor(s) if he/she determines they provide for a reasonable balance between the state's interest and the national interest.” On January 6, 2025, the Department of the Interior Principal Deputy Assistant Secretary, Land and Minerals Management, issued a response to the Governor detailing the reasons that the recommendations that the Acting State Director rejected did not meet this standard. Pursuant to 43 CFR 1610.3-2(e), the basis for the BLM's determination on the Governor's appeal is presented below. The BLM is publishing the appeal response verbatim.

“This letter addresses the State of Utah's appeal of the response provided by the BLM Utah Acting State Director regarding the consistency review of the Grand Staircase-Escalante National Monument (GSENM) Proposed Resource Management Plan and Final Environmental Impact Statement (EIS).

The applicable regulations at 43 CFR 1610.3-2(e) provide you with the opportunity to appeal to the BLM Director the Acting State Director's decision to not accept the recommendations you made in your consistency review letter. Exercising the delegable authority of the Department of the Interior's Assistant Secretary, Land and Minerals Management, I have chosen to assume the review and resolution of your appeal from the BLM Director. The regulations at 43 CFR 1610.3-2(e) guide review of the appeal, in which I must consider whether you have raised actual inconsistencies with State or local plans, policies, and or programs. If inconsistencies are raised, I consider whether your recommendations address the inconsistencies and provide for a reasonable balance between the national interest and the State of Utah's interest.

In your consistency review and your appeal, you allege 13 inconsistencies with State or local plans, policies, and programs. The alleged inconsistencies are as follows:

• “BLM's Failure to Disclose All Key Inconsistencies (The Failure to Accomplish the Prerequisite to the Governor's Consistency Review) . . . The State reaffirms its request that the BLM provide a complete disclosure of all key inconsistencies it was aware of before the 60-day review period began.”

• “Coordination and Process Issues . . . The State reaffirms its position that the BLM violated its duty to coordinate with the State at appropriate stages of the planning process, as required by the State RMP.”

• “Monument Designation . . . The State reaffirms its position that the BLM violated its duty to respect the State's interests . . . on all designations of over 5,000 acres.

• “Objects . . . The BLM's approach of maximal protection in the absence of a finalized inventory of Monument objects is neither required by law nor consistent with the BLM's legal obligations under FLPMA and the State RMP.

• “Rejection of Multiple Use and Sustained Yield . . . The State has consistently maintained that when the BLM does not need to diminish multiple-use activities to protect specific Monument objects, it must not . . . The State RMP makes clear that non-use (saving the land for conservation purposes) cannot trump multiple use principles, only use limitations required to protect specific Monument objects can.

• “Management Zones . . . The State asserts again that its RMP specifically prohibits the management area approach.

• “Management of WSAs [Wilderness Study Areas] and LWCs [Lands with Wilderness Characteristics] . . . the BLM must manage LWCs under the multiple-use and sustained yield framework unless such management conflicts with the proper care of Monument objects . . . Regarding WSAs, the BLM can meet its non-impairment obligations and remain consistent with the State RMP by designating these areas as OHV limited rather than fully closing them.”

• “Travel Management, Land Access, and R.S. 2477 Rights-of-Way . . . the BLM ignores that the regulations allow for land to be designated as allowing “limited” OHV use, which is exactly what the State RMP requires . . . . the BLM's response does not address the inconsistency the State raised regarding the prohibition of nonmotorized recreational trails, including paved and mechanized trails, in the Primitive Area . . . The State also appeals the BLM's decision not to provide access to claimed R.S. 2477 routes within the GSENM . . . The State also appeals the BLM's decision to close the V-Road.”

• “Livestock Grazing . . . The State appeals the BLM's decision not to accept the majority of its livestock grazing recommendations. Foremost among these concerns are protecting and accommodating livestock grazing and leaving lands available for grazing.”

• “Invasive Species Management . . . The State reaffirms its recommendation to ensure that the Proposed RMP supports the State's goal of eradicating Russian olive and tamarisk by 2030 and facilitates their removal without unnecessary restrictions.”

• “VRM [Visual Resource Management] Classifications along the Highway 89 Utility Corridor . . . The State reaffirms its recommendation to classify the entire utility corridor as VRM Class IV. If the BLM rejects this recommendation, the State requests that the four-mile segment be managed as VRM Class III . . .”

• “Harvest of Forest Products . . . The State requests that the BLM modify the Proposed RMP to allow for small-scale commercial timber harvests (such as firewood sales) in appropriate areas and remove the prohibition on noncommercial harvests in LWCs where it is not detrimental to Monument objects as well as in all other areas where a site-specific decision to limit harvest has not been made.”

• “Camping and Recreation Restrictions . . . The State reaffirms its recommendation to remove the blanket permit requirement for all overnight camping in GSENM and to limit the requirement to areas where it is genuinely needed for management purposes, such as in high-traffic areas, to protect sensitive resources, or in areas where additional safety, education, or visitor use data is needed.”

Your appeal included specific recommendations to resolve each of these alleged inconsistencies, including that the BLM restart the planning process. The national interest for this planning effort is founded upon Proclamations 6920 and 10286, which make clear there is an obligation to protect GSENM's vast and austere landscape and array of historic and scientific objects for future generations to both experience and learn from. For example, in Proclamation 10286, President Biden stated “it is in the public interest to ensure the preservation, restoration, and protection of the objects of historic or scientific interest on the Grand Staircase-Escalante lands, including the entire Monument landscape . . .” To protect that interest, the Federal policy for this planning effort is to protect and restore the Monument's landscape and resources for all Americans throughout the nation. Considering this clear expression of national interest, and upon review of your appeal, I find that the State's recommendations do not present a reasonable balance between the national interest and the State's interest for the reasons discussed below.

First, the State's appeal alleges that the BLM has failed to identify inconsistencies with State and local planning and regulations; however, I concur with the Acting State Director's finding that Appendix O in the Proposed RMP/Final EIS, which identifies key consistencies and differences between the Proposed RMP and State and county plans, is consistent with 43 CFR 1610.3-2(e). To the extent that the State has now identified additional alleged inconsistencies in writing through the consistency review and appeal process, the BLM has considered and responded through the Acting State Director's November 22 reply and through this response to your appeal. Accordingly, I do not accept the State's recommendation that the BLM provide the Governor with an additional 60 days for supplementary review.

Second, regarding coordination, as the Acting State Director noted in his reply, and as is outlined in the Proposed RMP/Final EIS, particularly Chapter 4, sections 4.1 and 4.3, the BLM engaged extensively with the State, counties, and local land managers throughout the RMP development process. The BLM coordinated with the State of Utah's Public Lands Policy Coordinating Office as the primary contact and lead representative for all applicable state agencies. The BLM also consulted with the Utah Division of Wildlife Resources on the proposed recreational shooting closures in the Proposed RMP/Final EIS, as required by the John D. Dingell, Jr. Conservation, Management, and Recreation Act. In addition, Kane County, Garfield County, Kane County Water Conservancy District, Washington County Water Conservancy District, and various local municipalities participated as cooperating agencies throughout the development of the RMP. Moreover, the components of Alternative E (i.e., the Proposed RMP) derive from the alternatives presented in the Draft EIS and are within the range of alternatives considered and analyzed in the Draft EIS and were informed by BLM's engagement with State and local governments, as well as public input received during the public comment period. As such, the BLM complied with all applicable laws regarding coordination and consultation, including, but not limited to, the National Environmental Policy Act and Federal Land Policy and Management Act (FLPMA), throughout the planning process. Therefore, I do not accept the State's recommendation that the BLM “re-open” the planning process or offer additional opportunities for public comment.

Third, regarding the designation of the Monument, I concur with the Acting State Director that the President's designation of the Monument is not subject to the consistency review process set forth in 43 CFR 1610.3-2. Furthermore, your allegations regarding the lack of coordination with the State regarding implementation of the Proclamation and planning for the Monument are unfounded. Your recommendations are therefore not accepted, as described in the preceding paragraph.

Fourth, with respect to the inventory of objects of historic and scientific interest protected by the designation of the Monument, I agree with the Acting State Director that the Proposed RMP provides reasonable and appropriate protections to both the objects identified in Proclamation 6920 and 10286, as well as the resources discussed in those proclamations that do not themselves qualify as Monument objects. FLPMA provides the BLM with broad discretion to manage public lands in a manner that will protect the quality of scientific, scenic, historical, ecological, environmental, air and atmospheric, water resource, and archaeological values. That is especially true where, as here, a Presidential proclamation issued in accordance with the Antiquities Act has dedicated public lands to specific, protection-oriented uses. Thus, while the BLM is under an obligation to manage GSENM in a manner that is consistent with the protection of the objects identified in Proclamations 6920 and 10286, the agency retains the discretion to manage the Monument in a manner that also protects the other resources located therein.

As the BLM explained in its July 29, 2022, Notice of Intent to prepare an RMP for the Monument, the planning effort was intended to, among other goals, protect and restore the entirety of the Monument's landscape, its biological resources, its varied geology and associated scenery, and its world-class outdoor recreation opportunities, in addition to protecting and restoring the Monument objects for which GSENM was designated. The Proposed RMP, which provides reasonable and appropriate protection to both GSENM's objects and resources, accomplishes those goals while allowing for a diverse array of uses in the Monument. The Proposed RMP does not, however, provide “maximum protection”, as you allege, to GSENM's resources, as evidenced, in part, by the fact that the Proposed RMP is not comprised of the most restrictive management direction analyzed in the EIS. As such, I disagree that the Proposed RMP is inconsistent with the State RMP's direction that “reasonable protection should not be translated to mean the maximum amount of protection possible.” Because I find that the agency is providing reasonable and appropriate protection to resources within the Monument, while meeting our obligation under Proclamation 10286 to protect Monument objects, your recommendations are not accepted.

Fifth, you express concerns about the Proposed RMP's implementation of the principles of multiple use and sustained yield in the Monument. As described above, while the Proposed RMP provides appropriate protections for both monument objects and other resources, it also provides for other uses within the Monument, including livestock grazing, motorized recreation, and several other forms of use. Further, in managing the Monument, the BLM is obligated to comply with Section 302(a) of FLPMA, which requires the BLM to “manage the public lands under principles of multiple use and sustained yield . . . except that where a tract of such public land has been dedicated to specific uses according to any other provisions of law it shall be managed in accordance with such law.” (43 U.S.C. 1732(a)). Thus, complying with the directives of the Proclamation is paramount, per section 302(a) of FLPMA. Overall, with respect to the nation's interest, as described above, I find that that agency has appropriately balanced protection and use with this plan.

Sixth, with regard to Management Zones, I acknowledge your reiteration and clarification that the management area approach is inconsistent with the State RMP. While I agree with the Acting State Director that the management areas are not considered by BLM to be “special designations,” I understand from your appeal that the State considers these management areas as special designations with respect to the State RMP, and therefore finds them to be inconsistent with the State RMP. Regardless, the BLM believes that using management areas is the best way to protect and restore Monument objects, protect and maintain intact and resilient landscapes in GSENM, and protect and restore world-class outdoor recreation opportunities in the Monument. Management areas, which are essentially a way to organize various underlying management actions, allow the BLM to manage visitation and allowable uses in a holistic manner that is readily understandable by the public. By comparison, adopting the State RMP's approach would not achieve Federal policy goals, as it would not provide the public with an easy way to understand the allowable uses within given areas of GSENM. When considering the balance between national and state interests, I find that the use of management areas, which have been largely in place as a successful tool since 2000, is the appropriate way to manage recreation in the Monument in a way that visitors will understand, and that provides the agency with the framework to minimize user conflict, provide diverse experiences, and protect Monument objects. Therefore, I do not accept the State's recommendation to remove management areas from the Proposed RMP, as the State's approach would not represent a reasonable balance between the national interest and the State interest.

Seventh, concerning management of WSAs and LWCs, while I understand that you find that the protection of the wilderness values of these areas is inconsistent with the State RMP, I have determined that the Proposed RMP's approach to managing WSAs and LWCs provides a reasonable balance between the national and the State's interest, whereas the State's approach does not. Wilderness character is a public land resource, and the management direction in the Proposed RMP that would require its protection in certain areas in GSENM is consistent with the policy of protecting the Monument's large, remote, rugged, and markedly impenetrable landscapes, as well as protecting and restoring the biological resources in the Monument that owe, in part, to its remoteness. Treating all areas of the Monument that contain wilderness character as the State recommends would fail to achieve this policy goal. Indeed, it would counteract it. Similarly, the closure of WSAs to off-road vehicle (OHV) use is often the best way to ensure that WSAs are managed in a manner so as not to impair their suitability for preservation as wilderness, as is required under section 603 of FLPMA. Closing WSAs to OHV use will also help achieve the goals stated above concerning the protection and restoration of GSENM's remote landscape and biological resources. By comparison, facilitating OHV use in the Monument's WSAs by designating them as OHV limited would jeopardize the BLM's ability to comply with section 603 and make it harder to achieve the policy goals of the Federal Government, including those outlined in the Proclamations and FLPMA. Because the State's recommendations concerning LWC and WSAs are inconsistent with Federal policy, and potentially inconsistent with Federal law, I do not believe that the State's recommendations provide for a reasonable balance between the national interest and the State's interest. It is also worth re-stating the Acting State Director's observation that closing WSAs to BLM designation of OHV routes does not preclude the BLM from recognizing routes in these areas that are subsequently determined to be held by the State or counties pursuant to R.S. 2477.

Eighth, regarding travel management, land access, and R.S. 2477 rights-of-way, under 43 CFR 8342.1, the BLM must designate all public lands as either open, limited, or closed to OHVs based on the protection of the resources of the public lands, the promotion of the safety of all the users of the public lands, and the minimization of conflicts among various uses of the public lands. Under the Proposed RMP, the BLM applied OHV closures to areas within GSENM that (1) would minimize damage to soil, watersheds, vegetation, air and other resources; (2) would minimize harassment of wildlife or significant disruption of wildlife habitats; (3) would minimize conflicts between off-road vehicle use and other existing or proposed recreational uses of the same or neighboring public lands, and to ensure the compatibility of such uses with existing conditions in populated areas, taking into account noise and other factors; and, (4) would minimize potential adverse effects to primitive areas consistent with the intent of the area. As noted in the Acting State Director's response, maximizing motorized vehicle access in GSENM would be inconsistent with the BLM's regulatory obligations under 43 CFR 8342.1 to minimize resource impacts and user conflicts. Moreover, designating the entirety of GSENM as OHV limited—to the extent it would be consistent with 43 CFR 8342.1—would be inconsistent with the Federal policy of protecting and restoring GSENM's remote landscape, varied geology and associated scenery, and biological resources. That is especially true given that many of the areas of GSENM that the State recommends designating as OHV limited have not experienced authorized OHV use in more than two decades, despite the fact that the 2020 Grand Staircase, Kaiparowits, and Escalante Canyons Units and Kanab Field Office-Escalante Area Resource Management Plans designated these areas as OHV limited. I therefore do not find the State's position, as described in the State RMP, to be a reasonable balance between the national and the State's interest. The Acting State Director also correctly summarized the agency's approach to managing claimed R.S. 2477 rights-of-way, including the V-Road. The BLM will update management accordingly if routes in these areas are subsequently determined to be held by the State or counties pursuant to R.S. 2477.

Your appeal also alleges that one of the State's recommendations regarding nonmotorized recreational trails in the primitive area from the Governor's letter was not addressed in the Acting State Director's response. While the Acting State Director's response did not directly address this recommendation, it was indirectly addressed as part of the response regarding motorized trails in the primitive area that explained that this area-based restriction is necessary to protect Monument objects while balancing specific user experiences. The Acting State Director's response further explained that this approach is consistent with the State's policies to ensure a broad range of uses, particularly for economic, cultural, and public safety purposes. For instance, this management approach allows for a self-discovery approach to recreation, including the opportunity to cross-county hike, rather than being limited to a specific trail or trails. In addition, construction of either new motorized or nonmotorized trails in the primitive area could result in increased surface disturbance in a broad swath of the Monument and inhibit the protection of the rugged and remote Monument landscape, as required by the Proclamation. There remain other opportunities in the Monument for more structured recreation experiences including nonmotorized trail-based, mechanized, and motorized experiences. Upon review of the recommendation through this appeal, for the reasons described above, I decline to accept the recommendation, as it does not provide for the reasonable balance between the national interest and the State's interests.

Ninth, with regards to livestock grazing management and range improvements, I find that, to the extent the Proposed RMP is inconsistent exist with the State's plans, programs or policies, those inconsistencies are necessary to comply with Federal law and policy. As explained below, the Proposed RMP appropriately balances the needs of livestock producers, wildlife populations, and the natural environment, as required by FLPMA and Proclamation 10286.

Making certain allotments in the Monument unavailable to grazing is necessary to comply with the Federal law and the Proclamations and is consistent with the national interest. By prohibiting livestock grazing in these areas for the time being, the Proposed RMP helps to mitigate impacts to ecological and hydrological functions which, in turn, enhances BLM's ability to comply with the requirement imposed by section 302 of FLPMA and the Proclamations to provide proper care and management to Monument objects. This management approach is likewise necessary to achieving desired outcomes for the Monument, including the Federal policy of protecting and restoring the entirety of the Monument and its biological resources. By comparison, making these allotments available to livestock grazing and introducing the possibility that livestock would be reintroduced into these areas after being absent for more than 20 years would undermine the national interest in protecting GSENM's objects and resources for future generations. As a result, I do not accept the State's recommendation to make these allotments available to grazing, as this would be inconsistent with the national interest.

With respect to the four pastures that are limited to trailing until rangeland health standards are met, I find that the management approach you propose, and the management approach the agency is now taking (per the Acting State Director's November 22nd letter), are now sufficiently aligned to be deemed consistent. I also appreciate your offer of support to help perform future land health assessments.

Next, regarding the management direction involving modifications to existing structural range improvements and the construction of new range improvements, such actions are not prohibited under the Proposed RMP. Rather, the Proposed RMP requires that such construction and improvements be associated with documentation that the improvement or its modification would support the achievement of rangeland health standards (based on a land health assessment within the last 10 years) and that the action is consistent with the protection of GSENM objects. This is necessary to achieve the Federal policy of protecting and restoring the entirety of the GSENM landscape and its associated scenery, as well as its biological resources and processes. To ensure consistency with the Proclamations, the Proposed RMP requires that structural range improvements and construction be tied to the protection of GSENM objects. Eliminating the requirement, as the State recommends, would be inconsistent with Federal policy, and therefore not represent a reasonable balance between the national interest and State interest.

Similarly, I concur with the Acting State Director's response that non-structural improvements primarily for an increase in forage would not be consistent with the protection of GSENM objects, nor would it be consistent with the Federal policy of restoring natural biological processes in the Monument. Furthermore, nothing in the proposed RMP prohibits a nonstructural range improvement from having a secondary benefit that increases forage, as long as it is consistent with other management in the plan.

Your appeal also notes that while the Acting State Director intends to make changes to the Approved RMP for data used to inform drought conditions, you remain concerned with drought management and AUM limits. I find the concerns regarding drought management do not contain an identified inconsistency with State or local policy, program or plan, and the AUM limitations are addressed under concerns about general grazing management. Further, the updated approach (per the Acting State Director's November 22nd letter) regarding AUM adjustments during drought conditions provide that adjustments would be based on the data that informs drought severity at the appropriate scale, including local rain gauges and field data collection of present forage condition. Given this refinement in the type of data that indicates the drought conditions, AUM reductions would be targeted and based on the best available data.

Finally, with respect to livestock grazing, your appeal also alleges that five of the State's recommendations from your letter were not addressed in the Acting State Director's response. After my review of the five recommendations, I have determined that the recommendations do not provide for the reasonable balance between the national interest and the State's interests, and I do not accept them for the reasons noted below.

Regarding grazing recommendation #7, to “allow two-sided flexibility in AUMs”, the State's letter speaks to the potential for increasing AUMs depending on forage availability. The BLM's grazing regulations already provide for the consideration of temporary adjustments in AUMs. In addition, as supported by resource conditions and monitoring, suspended AUMs may also be restored to active use without an additional land use plan-level decision. Therefore, flexibilities exist to address potential increases in AUMs through future plan implementation, and no inconsistency exists between the Proposed RMP and the State's RMP, and I am not accepting your recommendation.

Regarding grazing recommendation #9, to “incorporate best available science in decision-making,” there are already present in law, regulation, and policy requirements to collect and use the best available information when making land use decisions and implementation decisions, including for livestock grazing. It is unnecessary to repeat the same requirement in an RMP, and accordingly, no inconsistency exists here between the Proposed RMP and the State's RMP, and I am not accepting your recommendation.

Regarding grazing recommendation #12, to “prioritize other options over reducing grazing” in areas where rangeland health deteriorates, the BLM considers all options that are consistent with the grazing regulations when considering changes to implementation-level grazing practices and does not elevate one option as a means to achieve healthy rangelands. As such, the proposed RMP does not prioritize or minimize a given approach if an area is not meeting rangeland health standards. Rather, it directs to “consider both a decrease in permitted use. . .and changes to grazing practices. . .” Such consideration would provide the BLM a comparison from which to make informed decisions when determining changes to improve rangeland health. Furthermore, in some cases, based on the facts, the BLM may find that changes to grazing use levels and practices are not necessary, and will rather implement restoration actions to improve rangeland health, consistent with several management actions in the plan. As such, I found that no inconsistency exists here between the Proposed RMP and the State's RMP, and I am not accepting your recommendation.

Regarding grazing recommendation #13, to focus on removing tamarisk and Russian olive plants before closing grazing pastures to protect riparian areas and address different aspects of riparian health, a change was made, as described in the Acting State Director's November 22 response, to provide for an adaptive management opportunity to remove the trailing-only restrictions in the four pastures when they meet rangeland health standards. The adaptive management may include such restoration actions that you describe in your appeal letter. This adjustment strikes the balance between riparian health in the identified pastures and the use of public lands for livestock grazing. As such, I do not find that a substantive inconsistency exists between the Proposed RMP and the State RMP, and I am not accepting your recommendation.

Regarding grazing recommendation #14, to “employ and rely on stock-and-monitor to test rangeland effects,” for areas available to livestock grazing, the Proposed RMP directs the BLM to conduct land health assessments and, if needed, causal factor determinations, to inform the processing and issuance of grazing permits to support the achievement of the BLM Utah Rangeland Health Standards and ensure consistency with the protection of Monument objects. While this language is similar in concept to the recommended “stock-and-monitor to test” approach, it more accurately aligns with the direction in BLM's grazing regulations. The grazing regulations also direct BLM to identify in the RMP which lands are available for livestock grazing and to set forth the constraints and general management practices needed to achieve the management objectives, including managing the Monument for healthy rangelands. As such, I do not find that a substantive inconsistency exists between the Proposed RMP and the State RMP, and I am not accepting your recommendation.

Tenth (noted as eleventh in the appeal letter), with regard to invasive species management, as noted in the Acting State Director's response, the BLM intends to eliminate inconsistency with the State's RMP by expanding allowable management of invasive plants, including Russian olive and tamarisk, where doing so is consistent with other management direction and the protection of Monument objects. While the BLM supports the State RMP's objective of removal of Russian olive and tamarisk plants from all riparian areas by 2030, the BLM's proposed management of invasive species is not inconsistent with the State's plans or policies simply because it does not mirror the exact language of the State's RMP. As a result, I do not accept the State's recommendations regarding invasive species.

Eleventh (noted as twelfth in the appeal letter), regarding the State's concerns about Visual Resource Management (VRM) along a four-mile segment of the Highway 89 utility corridor, I find that these concerns do not raise an inconsistency with State or local plans, policies, and programs. As explained in the Acting State Director's response, management of this segment as VRM Class II is necessary for protecting the visual resources associated with the Cockscomb formation, an object identified for protection in Proclamation 10286, while still allowing access, maintenance, or development of utilities, consistent with Public Law 105-355 and consistent with the State RMP's intent to protect access to utilities, improve infrastructure, and conduct vegetation management activities near infrastructure. Because the State has not identified any inconsistencies related to the VRM classifications in the Proposed RMP, I do not accept the State's recommendation to make changes to those classifications.

Twelfth (noted as thirteenth in the appeal letter), the State's appeal alleges continued inconsistencies regarding commercial forestry and woodland harvest within the proposed RMP. I concur with the Acting State Director's finding that the limitations on commercial and noncommercial harvests within the Monument are necessary for the protection of various Monument objects identified in Proclamation 10286, including certain forest resources, as well as the overall GSENM landscape. Commercial timber harvest has not been authorized in the Monument for more than 20 years, and lifting this limitation could jeopardize various Monument objects and would be inconsistent with the Federal policy goal of protecting and restoring GSENM's landscape, scenic attributes, and biological resources. In addition, because commercial timber harvest is allowed on other Federal lands in southern Utah, the prohibition in the Proposed RMP would not constrain the general ability to harvest timber in the State. Accordingly, I find that the State's recommendation to allow commercial timber harvest in GSENM (even those that you describe as “small-scale, local commercial operations”) does not provide for a reasonable balance between the national and the State's interest.

Regarding alleged inconsistency from the Proposed RMP's restriction of noncommercial harvest in lands managed for the protection of wilderness characteristics, this restriction provides for a reasonable balance between the national and the state interests, in that it allows for some noncommercial harvests in the Monument but does so in a way that protects other resource values and management objectives. The Proposed RMP's restriction of noncommercial harvest throughout portions of the Monument, especially those portions managed for the protection of wilderness characteristics, is necessary to facilitate the protection and restoration of the Monument's biological, cultural, and scenic resources. By comparison, the State's recommendation to allow for noncommercial harvest in lands managed for the protection of wilderness characteristics would hinder the BLM's ability to protect and restore these resources and, therefore, would be inconsistent with Federal policy. Moreover, noncommercial harvest is allowed on other Federal lands in the vicinity, so the prohibition in the Proposed RMP would not prohibit all noncommercial harvest of timber resources in the area. Therefore, I also find that the State's recommendation to allow for noncommercial timber harvest in lands managed for the protection of wilderness characteristics does not provide for a reasonable balance between the national and the State's interest.

Thirteenth (noted as fourteenth in the appeal letter), concerning your appeal regarding permits for overnight camping, I agree with the Acting State Director that the requirement in the Proposed RMP that all overnight campers obtain free-use permits is not inconsistent with the State RMP's vision of promoting balanced, accessible, and sustainable outdoor recreation opportunities. Much like the State, the BLM supports making access to public lands easy and affordable for all visitors. The BLM is also required to protect Monument objects noted in the Monument proclamation, and to ensure the safety of public land users. The overnight camping permit requirement, which is intended to provide the BLM with the opportunity to share messaging with overnight users regarding safety and resource protection, to better track visitor use to support informed management, and to help better track or locate overdue parties, is consistent with both those goals. Notably, the permit requirement in the Proposed RMP does not limit the number of permits that will be issued, create a lottery to obtain a permit, or otherwise impose restrictions that will reduce the public's ability to camp in GSENM. In addition, the public would be able to obtain a permit either in person or online. Accordingly, the permit requirement in the RMP is consistent with promoting balanced, accessible, and sustainable outdoor recreation opportunities. Balanced, accessible, and sustainable outdoor recreation opportunities do not necessarily mean an entirely unregulated experience. Because I disagree that a substantive inconsistency exists between the Proposed RMP and the State RMP regarding permits for overnight camping, I am not accepting your recommendations.

Finally, the BLM has prepared the GSENM Proposed RMP/Final EIS in accordance with all applicable Federal laws, regulations, and policies. The BLM carefully reviewed and considered applicable State, local, and other Federal agency plans, policies, and programs in the development of the GSENM RMP/Final EIS. The Proposed RMP is consistent, to the extent practicable, with these plans as required by FLPMA and the planning regulations at 43 CFR 1610.3-2(e). In conclusion, to the extent any inconsistencies exist, I find that the recommendations outlined in your appeal do not provide for a reasonable balance between the national interest and the State's interest for the reasons discussed herein. Accordingly, I do not accept the State's recommendations.”

(Authority: 43 CFR 1610.3-2(e))

Nada Wolff Culver,
Principal Deputy Director.

[FR Doc. 2025-00951 Filed 1-15-25; 8:45 am]

BILLING CODE 4331-25-P